DEPARTMENT OF STATE

[Public Notice: 12732]

Notice of Shipping Coordinating Committee Meeting in Preparation for International Maritime Organization Maritime Safety Committee 110

The Department of State will conduct a public meeting at 9:00 a.m. on Wednesday, June 11, 2025, both in-person at Coast Guard Headquarters in Washington, DC, and via teleconference through Microsoft Teams. The primary purpose of the meeting is to prepare for the 110th session of the International Maritime Organization's (IMO) Maritime Safety Committee (MSC 11) to be held at the IMO Headquarters in London, United Kingdom from Wednesday, June 18, to Friday, June 27, 2025.

Members of the public may participate up to the capacity of the teleconference line, which can handle 500 participants or up to the seating capacity of the room if attending in-person. The meeting location will be the United States Coast Guard Headquarters, 5PS Conference Room, and the teleconference line will be provided to those who RSVP. To RSVP, participants should contact the meeting coordinator, LT Emily Sysko, by email at Emily.T.Sysko@uscg.mil. LT Sysko will provide access information for in-person and virtual attendance.

The agenda items to be considered at this meeting include:

—Adoption of the agenda; report on credentials

—Decisions of other IMO bodies

—Amendments to mandatory instruments

—Goal-based new ship construction standards

—Development of a goal-based instrument for maritime autonomous surface ships (MASS)

—Development of a safety regulatory framework to support the reduction of GHG emissions from ships using new technologies and alternative fuels

—Revision of the Guidelines on Maritime Cyber Risk Management (MSC-FAL.1/Circ.3/Rev.2) and identification of next steps to enhance maritime cybersecurity

—Measures to enhance maritime security

—Piracy and armed robbery against ships

—Unsafe mixed migration by sea

—Ship design and construction (Report of the eleventh session of the Sub-Committee)

—Pollution Prevention and Response (Report of the twelfth session of the Sub-Committee)

—Human element, training and watchkeeping (Report of the eleventh session of the Sub-Committee)

—Ship systems and equipment (Report of the eleventh session of the Sub-Committee)

—Navigation, communications and search and rescue (Urgent matters emanating from the twelfth session of the Sub-Committee)

—Carriage of cargoes and containers (Report of the tenth session of the Sub-Committee)

—Application of the Committee's method of work

—Work programme

—Election of Chair and Vice-Chair for 2026

—Any other business

—Consideration of the report of the Committee on its one hundred and tenth session

Please note: The IMO may, on short notice, adjust the MSC 110 agenda to accommodate the constraints associated with the virtual meeting format. Any changes to the agenda will be reported to those who RSVP.

Those who plan to participate should contact the meeting coordinator, LT Emily Sysko, by email at Emily.T.Sysko@uscg.mil, by phone at (202) 372-1376, or in writing at United States Coast Guard (CG-5PS), ATTN: LT Emily Sysko, 2703 Martin Luther King Jr. Ave. SE, Stop 7509, Washington, DC 20593-7509. Members of the public needing reasonable accommodation should advise LT Emily Sysko no later than no later than June 6th, 2025. Requests made after that date will be considered but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-08732 Filed 5-15-25; 8:45 am]

BILLING CODE 4710-09-P